DEPARTMENT OF HEALTH AND HUMAN SERVICES

Administration for Children and Families

Submission for OMB Review; Comment Request

Title: Head Start Training and Technical Assistance Assessment.

OMB No.: New Collection.

Description: This data will be used to assess the Head Start Training and Technical Assistance (T/TA) delivery system. Data collected will provide information on the quality of services that Head Start Quality Improvement Centers (QICs) provide to Head Start grantees. Respondents will include QIC staff, collaborative partners of QIC organizations, and Head Start grantees. Specifically, site visit interviews will be conducted with QIC Directors and QIC Area Specialists, while telephone interviews will be conducted with QIC Directors, Grantee Directors, and Partner Agencies.

Training and technical assistance are critical in supporting the continuous improvement efforts of Head Start grantee and delegate agencies serving children birth to five and their families. The reports of the Advisory Committee on Head Start Quality and Expansion in December 1993 and the Advisory Committee on Services for Families with Infants and Toddlers reaffirmed the importance of T/TA to support program quality. The Head Start Act of 1994 (P.L. 103-252) also emphasized the importance of T/TA and stated that T/TA activities must ensure that needs of local Head Start agencies relating to improving program quality and expansion are addressed to the maximum extent feasible.

The assessment is designed to gather information for program management and planning purposes about the kind and quality of services provided by each QIC. Information collected will be used by the Bureau to: (1) identify the quality of approaches undertaken in each phase of the strategic planning cycle; (2) identify any patterns or changes over time in the delivery of T/TA; and (3) determine the feasibility of future initiatives and funding decisions. The data collected will provide a means for the Head Start Bureau to carry out the Federal role outlined in the Cooperative Agreement establishing the QICs. These data also may be used, in part, to fulfill the Department's requirement to report to Congress on the Head Start program under the Government Performance and Results Act (GPRA).

Respondents:

Head Start Quality Improvement Centers (QIC), Head Start Grantees, Head StartPartner Agencies.

Annual Burden Estimates
Instrument | Number of respondents | Number of responses per respondent | Average burden hours per response | Total burden hours
QIC Director Site Visit Interview | 28 | 30 | .1 | 84
QIC Area Specialists Site Visit Interview | 116 | 19 | .16 | 353
QIC Director Telephone Interview | 28 | 8 | .19 | 42
HS Partner Agency Telephone Interview | 112 | 11 | .09 | 112
Grantee Director Telephone Interview | 256 | 18 | .11 | 512
Estimated Total Annual Burden Hours: |  |  |  | 1,103

Additional Information: Copies of the proposed collection may be obtained by writing to The Administration for Children and Families, Office of Information Services, 370 L'Enfant Promenade, SW, Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW, Washington, DC 20503, Attn: Desk Officer for ACF.

Dated: May 9, 2000.
Bob Sargis,
Reports Clearance Officer.

[FR Doc. 00-12250 Filed 5-15-00; 8:45 am]

BILLING CODE 4184-01-M